DEPARTMENT OF HEALTH AND HUMAN SERVICES

Centers for Disease Control and Prevention

[60Day-09-09BW]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Postural Analysis in Low-Seam Mines—New—National Institute for Occupational Safety and Health (NIOSH), Centers for Disease Control and Prevention (CDC).

Background and Brief Description

NIOSH, under Public Law 91-596, sections 20 and 22 (section 20-22, Occupational Safety and Health Act of 1970) has the responsibility to conduct research relating to innovative methods, techniques, and approaches dealing with occupational safety and health problems.

According to the Mining Safety and Health Administration (MSHA) injury database, 227 knee injuries were reported in underground coal mining in 2007. With data from the National Institute for Occupational Safety and Health (NIOSH), it can be estimated that the financial burden of knee injuries was nearly three million dollars in 2007.

Typically, mine workers utilize kneepads to better distribute the pressures at the knee. The effectiveness of these kneepads is to be investigated in a study by NIOSH. Thus, NIOSH will be determining the forces, stresses, and moments at the knee while in postures associated with low-seam mining. At this time, the postures utilized by low-seam mine workers and their frequency of use are unknown. Therefore, before conducting this larger, experimental study, the proposed field study must be conducted.

The aim of the proposed field study is to determine the postures predominantly used by low-seam mine workers such that they may complete the various tasks associated with their job duties. A questionnaire was developed for each of the major job types seen in low-seam mines with continuous miners (continuous miner operator, roof bolter operator, shuttle car operator, mobile bridge operator, mechanic, beltman, maintenance shift worker, foreman). The questionnaire asks basic demographic information (e.g., time in job type, years in mining, age). Additionally, a series of questions are asked such that it may be determined if a mine worker is likely to have a knee injury, even if it is undiagnosed. These questions were developed with the help of a physical therapist. A schematic of possible postures will then be presented to the mine workers and they will be asked to identify the primary two postures they utilize to complete their job duties. The questionnaire then asks mine workers to identify the primary postures they utilize to complete specific tasks (e.g., hanging curtain, building stoppings) that are part of their job duties. Finally, mine workers are asked to identify those postures that are least and most comfortable/stressful. There is no cost to respondents other than their time.

Estimated Annualized Burden Hours
Respondents | Form name | Number of respondents | Number of responses per respondent | Average burden per response (in hours) | Total burden (in hours)
Continuous Miner Operator | Continuous Miner Operator Form | 5 | 1 | 10/60 | 1
Foreman | Foreman Form | 5 | 1 | 10/60 | 1
Maintenance Shift Worker | Maintenance Shift Worker Form | 10 | 1 | 10/60 | 2
Mobile Bridge Operator | Mobile Bridge Operator Form | 10 | 1 | 10/60 | 2
Roof Bolter Operator | Roof Bolter Operator Form | 14 | 1 | 10/60 | 2
Scoop Operator | Scoop Operator Form | 6 | 1 | 10/60 | 1
Shuttle Car Operator | Shuttle Car Operator Form | 6 | 1 | 10/60 | 1
Mechanic | Mechanic Form | 6 | 1 | 10/60 | 1
Beltman | Beltman Form | 2 | 1 | 10/60 | 0.5
Total |  |  |  |  | 12

Dated: June 11, 2009.
Maryam I. Daneshvar,
Acting Reports Clearance Officer, Centers for Disease Control and Prevention.

[FR Doc. E9-14834 Filed 6-23-09; 8:45 am]

BILLING CODE 4163-18-P